ENVIRONMENTAL PROTECTION AGENCY

[FRL-7168-3]

Proposed Settlement Agreement

AGENCY: Environmental Protection Agency.

ACTION: Notice of proposed settlement agreement; request for public comment.

SUMMARY: In accordance with section 113(g) of the Clean Air Act, as amended, 42 U.S.C. 7413(g), notice is hereby given of a proposed settlement agreement in Aluminum Association v. U.S. EPA, No. 00-1211 (D.C. Circuit). This case concerns the National Emission Standard for Hazardous Air Pollutants for Secondary Aluminum Production, 40 CFR part 63, subpart RRR, published at 65 FR 15710 on March 23, 2000. The proposed settlement agreement was lodged with the United States Court of Appeals for the District of Columbia Circuit on April 1, 2002.

DATES: Written comments on the proposed settlement agreement must be received by May 6, 2002.

ADDRESSES: Written comments should be sent to Timothy D. Backstrom, Air and Radiation Law Office (2344A), Office of General Counsel, U.S. Environmental Protection Agency, 1200 Pennsylvania Avenue, NW., Washington, DC 20004. A copy of the proposed settlement agreement is available from Phyllis J. Cochran, (202) 564-7606. A copy of the proposed settlement agreement was also lodged in the case with the Clerk of the United States Court of Appeals for the District of Columbia Circuit on April 1, 2002.

SUPPLEMENTARY INFORMATION: EPA promulgated the National Emission Standard for Hazardous Air Pollutants for Secondary Aluminum Production, 40 CFR Part 63, Subpart RRR, on March 23, 2000. 65 FR 15710. The Aluminum Association filed a timely petition for review and settlement discussions followed.

The proposed settlement agreement provides that some revisions to Subpart RRR will be made by a proposed rule, and some more urgent revisions will be made by a direct final rule. The proposed rule and direct final rule are to be signed by the EPA Administrator by May 10, 2002, and final action on the proposed rule is due by December 13, 2002.

One issue addressed by the settlement agreement is the desire of the Petitioner to allow for different sources within a secondary aluminum facility to be ducted to the same emission controls. The existing rule expressly provides for emission averaging within a secondary aluminum processing unit or SAPU, an affected source which may include multiple emission units. However, due to statutory constraints, the rule does not permit new emission units to be included in the same SAPU with existing emission units. The amendments to be proposed address this issue in two ways: (1) By permitting existing emission units to be redesignated as new, and (2) by establishing criteria which would permit compliance demonstrations for other commonly ducted units.

The proposed rule also includes alternative procedures for adoption of an operation, maintenance, and monitoring (OM&M) plan, and technical amendments addressing compliance by unvented in-line flux boxes, compliance by sidewell furnaces, procedures for conducting performance tests, alternative monitoring methods, and recordkeeping for flux boxes which do not use reactive flux. The direct final rule will be used to resolve confusion in the structure of the current rule concerning compliance dates, and to defer a few early compliance obligations which would otherwise come due before the principal rulemaking process can be concluded.

For a period of thirty (30) days following the date of publication of this notice, EPA will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

Dated: April 1, 2002.
Alan W. Eckert,
Associate General Counsel, Air and Radiation Law Office.

[FR Doc. 02-8297 Filed 4-4-02; 8:45 am]

BILLING CODE 6560-50-U